FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Web site (http://www.fmc.gov) or contacting the Office of Agreements at (202) 523-5793 or tradeanalysis@fmc.gov.

Agreement No.: 011922-002.

Title: TNWA/GA Cooperative Working Agreement.

Parties: APL Co. Pte. Ltd.; American President Lines, Ltd.; Hyundai Merchant Marine Co., Ltd.; Mitsui O.S.K. Lines, Ltd.; Hapag-Lloyd AG; Nippon Yusen Kaisha; Orient Overseas Container Line Limited; Orient Overseas Container Line Inc.; and Orient Overseas Container Line (Europe) Limited.

Filing Party: Wayne R. Rohde, Esq.; Sher & Blackwell LLP; 1850 M Street, NW., Suite 900; Washington, DC 20036.

Synopsis: The amendment adds the ports of Los Angeles and Long Beach to the geographic scope of the agreement.

Agreement No.: 201176-001.

Title: License Agreement—Guam/Matson Navigation Co., Inc/Horizon Lines, Inc.

Parties: Horizon Lines, LLC; Matson Navigation Co.; and Port Authority of Guam.

Filing Party: Matthew J. Thomas; Troutman Sanders LLP; 401 9th Street, NW., Suite 1000; Washington, DC 20004-2134.

Synopsis: This amendment extends the deadline for Matson & Horizon to acquire and install the cranes and clarifies that the License Agreement does not affect any other Port charges.

By Order of the Federal Maritime Commission.
Dated: December 5, 2008.
Karen V. Gregory,
Secretary.

[FR Doc. E8-29176 Filed 12-9-08; 8:45 am]

BILLING CODE 6730-01-P